DEPARTMENT OF COMMERCE

National Oceanic and Atmospheric Administration

RIN 0648-XA36

U.S. Climate Change Science Program Synthesis and Assessment Product Draft Report 3.1

AGENCY: National Oceanic and Atmospheric Administration (NOAA), Department of Commerce.

ACTION: Notice of availability and request for public comments.

SUMMARY: The National Oceanic and Atmospheric Administration publishes this notice to announce the availability of the draft Report for one of the U.S. Climate Change Science Program (CCSP) Synthesis and Assessment Products for public comments. This draft Report addresses the following CCSP Topic:

Product 3.1 Climate Models: An Assessment of Strengths and Limitations for User Applications

After consideration of comments received on the draft Report, a revised Report along with the comments received will be published on the CCSP web site.

DATES: Comments must be received by July 6, 2007.

ADDRESSES: The draft Report is posted on the CCSP Program Office web site. The web address to access the draft Report is:

Product 3.1

http://www.climatescience.gov/Library/sap/sap3-1/default.php

Detailed instructions for making comments on the draft Report is provided on the SAP 3.1 webpage (see link here). Comments should be prepared in accordance with these instructions.

FOR FURTHER INFORMATION CONTACT: Dr. Fabien Laurier, Climate Change Science Program Office, 1717 Pennsylvania Avenue NW, Suite 250, Washington, DC 20006, Telephone: (202) 419-3481.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support evaluation of important policy issues. The Report addressed by this notice provides a topical overview and describes plans for scoping, drafting, reviewing, producing, and disseminating one of 21 final synthesis and assessment Products that will be produced by the CCSP.

Dated: May 17, 2007.
William J. Brennan,
Deputy Assistant Secretary of Commerce for International Affairs, and Acting Director, Climate Change Science Program.

[FR Doc. E7-9810 Filed 5-21-07; 8:45 am]

BILLING CODE 3510-12-S